DEPARTMENT OF DEFENSE

Department of the Army

Advisory Committee on Arlington National Cemetery Meeting Notice

AGENCY: Department of the Army, DoD.

ACTION: Notice of open committee meeting.

SUMMARY: The Department of the Army is publishing this notice to announce the following virtual Federal advisory committee meeting of the Advisory Committee on Arlington National Cemetery (ACANC), The Honor Subcommittee, and the Remember and Explore Subcommittee. These meetings are open to the public. For more information, please visit: http://www.arlingtoncemetery.mil/About/Advisory-Committee-on-Arlington-National-Cemetery/ACANC-Meetings.

DATES: The Remember and Explore Subcommittee will meet virtually on Wednesday, March 15, 2023 from 12:00 p.m. to 4:00 p.m., Eastern Standard Time. The Honor Subcommittee will meet on Wednesday, 22 March, 2023 from 9 a.m. to 3 p.m., Eastern Standard Time. The full ACANC will meet on Thursday, March 23, 2023 from 9 a.m. to 3 p.m., Eastern Standard Time.

FOR FURTHER INFORMATION CONTACT: Ms. Renea Yates; Designated Federal Official or Mr. Matthew Davis; Alternate Designated Federal Official (DFO) for the ACANC, in writing at Arlington National Cemetery (ANC), Arlington VA 22211, or by email at matthew.r.davis.civ@army.mil, or by phone at 1-877-907-8585.

SUPPLEMENTARY INFORMATION: Due to circumstances beyond the control of the Designated Federal Officer, the Remember and Explore Subcommittee of the Advisory Committee on Arlington National Cemetery was unable to provide public notification required by 41 CFR 102-3.150(a) concerning its March 15, 2023 meeting. Accordingly, the Advisory Committee Management Officer for the Department of Defense, pursuant to 41 CFR 102-3.150(b), waives the 15-calendar day notification requirement.

This meeting is being held under the provisions of chapter 10, 5 U.S.C. (commonly known as the Federal Advisory Committee Act or FACA), the Sunshine in the Government Act of 1976 (U.S.C. 552b) and 41 Code of the Federal Regulations (CFR 102-3.150).

Purpose of the Meeting: The primary purpose of the Remember & Explore Subcommittee is to recommend methods to maintain the Tomb of the Unknown Soldier Monument, including the cracks in the large marble sarcophagus, the adjacent marble slabs, and the potential replacement marble stone for the sarcophagus already gifted to the Army; accomplish an independent assessment of requests to place commemorative monuments within ANC; and identify means to capture and convey ANC's history, and improve the quality of visitors' experiences now and for generations to come.

The primary purpose of the Honor Subcommittee is to accomplish an independent assessment of methods to address the long-term future of the Army national cemeteries, including how best to extend the active burials and what ANC should focus on once all available space is used.

The ACANC provides independent advice and recommendations to the Secretary of the Army on ANC, including, but not limited to, cemetery administration, the erection of memorials at the cemetery, and master planning for the cemetery. The Secretary of the Army may act on the ACANC's advice and recommendations.

Agenda: The Remember and Explore Subcommittee will receive updates on the Chaplains Hill Monuments and the National Conference on Ministry in the Armed Forces (NCMAF) proposal; and receive an update on the Army actions to date regarding the Secretary of Defense's Implementation Guidance for the Commission on the Naming of Items of the Department of Defense that Commemorate the Confederate States of America or Any Person Who Served Voluntarily with the Confederate States of America's recommendations regarding the Confederate Memorial.

The Honor Subcommittee will receive an update on the status of the Final Eligibility Criteria Rule; and receive a briefing on the Memorial Avenue Area Development Plan.

The ACANC will receive briefings from each subcommittee chair; receive an operational update from the National Cemeteries Administration; receive a briefing on the Exception to Policy Process for interment at ANC; and receive an information briefing from the 3rd Infantry Regiment and U.S. Army Band on support to ANC.

Public's Accessibility to the Meeting: Pursuant to FACA and 41 CFR 102-3.140 through 102-3.165, this meeting is open to the public.

Procedures for Attendance and Public Comment: Contact Mr. Matthew Davis at via electronic mail, the preferred mode of submission, at the addresses listed in the FOR FURTHER INFORMATION CONTACT section to register to attend any of these virtual meetings. Public attendance will be via virtual attendance only. To attend any of these events, submit your full name, organization, email address, and phone number, and which meeting you would like to attend. Upon receipt of this information, a link will be sent to the email address provided which will allow virtual attendance to the event. Requests to attend the meetings must be received by 5:00 p.m. Eastern Standard Time, on Friday, 10 March 2023 (for the Remember and Explore Subcommittee Meeting); and Friday 17 March, 2023 (for the Honor Subcommittee Meeting or the Full ACANC meeting). (ANC will be unable to provide technical assistance to any user experiencing technical difficulties.)

For additional information about public access procedures, contact Mr. Matthew Davis, the Alternate DFO, at the email address or telephone number listed in the FOR FURTHER INFORMATION CONTACT section.

Written Comments and Statements: Pursuant to 41 CFR 102-3.105(j) and 102-3.140 and 5 U.S.C. 1009(a)(3), the public or interested organizations may submit written comments or statements to the Subcommittees and/or the ACANC in response to the stated agenda of the open meeting or in regard to the ACANC's Committee's mission in general. Written comments or statements should be submitted to Mr. Matthew Davis, the Alternate DFO, via electronic mail, the preferred mode of submission, at the address listed in the

FOR FURTHER INFORMATION CONTACT section. Each page of the comment or statement must include the author's name, title or affiliation, address, and daytime phone number. Written comments or statements being submitted in response to the agenda set forth in this notice must be received by the ACANC's DFO at least seven business days prior to the meeting to be considered by the ACANC. The ACANC's DFO will review all timely submitted written comments or statements with the ACANC's Chairperson, and ensure the comments are provided to all members of the ACANC before the meeting. Written comments or statements received after this date may not be provided to the ACANC until its next meeting. Pursuant to 41 CFR 102-3.140d, the ACANC is not obligated to allow any member of the public to speak or otherwise address the ACANC during the meeting. Members of the public may be permitted to make verbal comments during these meetings, and if allowed only at the time and in the manner described below. If a member of the public is interested in making a verbal comment at the open meeting, that individual must submit a request, with a brief statement of the subject matter to be addressed by the comment, at least three (3) business days in advance to the ACANC's Alternate DFO, via electronic mail, the preferred mode of submission, at the addresses listed in the FOR FURTHER INFORMATION CONTACT section. The ACANC's DFO will log each request, in the order received, and in consultation with the appropriate Chair determine whether the subject matter of each comment is relevant to the missions and/or the topics to be addressed in these public meeting. Members of the public who have requested to make a comment and whose comments have been deemed relevant under the process described above, will be invited to speak in the order in which their requests were received by the ACANC's DFO. The appropriate Chair may allot a specific amount of time for comments.

James W. Satterwhite, Jr.,
Army Federal Register Liaison Officer.

[FR Doc. 2023-04611 Filed 3-6-23; 8:45 am]

BILLING CODE 3711-02-P